DEPARTMENT OF TRANSPORTATION

Federal Aviation Administration

Aviation Rulemaking Advisory Committee—New Task

AGENCY: Federal Aviation Administration (FAA), DOT.

ACTION: Notice of new task assignment for the Aviation Rulemaking Advisory Committee (ARAC).

SUMMARY: The FAA assigned the Aviation Rulemaking Advisory Committee (ARAC) a new task to provide advice and recommendations to the FAA about how to prioritize rulemaking projects. This task addresses, in part, one of the Department of Transportation's Future of Aviation Advisory Committee (FAAC) recommendations. This notice informs the public of a new ARAC activity and solicits membership for the new Rulemaking Prioritization Working Group.

FOR FURTHER INFORMATION CONTACT: Katherine Haley, Office of Rulemaking, Federal Aviation Administration, 800 Independence Avenue, SW., Washington, DC 20591; telephone: 202-493-5708, facsimile: 202-267-5075; e-mail: Katherine.L.Haley@faa.gov.

SUPPLEMENTARY INFORMATION:

Background

The FAA established ARAC to provide advice and recommendations to the FAA Administrator on the FAA's rulemaking activities. ARAC's objectives are to improve the development of the FAA's regulations by providing information, advice, and recommendations related to aviation issues.

On April 16, 2010, the Secretary of the Department of Transportation established the Future of Aviation Advisory Committee (FAAC) to provide information, advice and recommendations to ensure the competitiveness of the United States aviation industry and its capability to address the evolving transportation needs, challenges and opportunities of the United States and global economies. As a result, the FAAC developed 23 recommendations which were submitted on December 15, 2010. The Rulemaking Prioritization Working Group will specifically address, in part, Recommendation #22: “The Secretary should quickly review the existing regulatory and safety initiative calendar and provide parameters and criteria for the FAA to prioritize its current and future rulemaking program. This review should include industry, or at a minimum seek industry input, and the results should be made publicly available * * *.”

The objective of the Rulemaking Prioritization Working Group is to provide advice and recommendations on developing a framework and methodologies to assist the FAA in assessing and sequencing potential rulemaking projects. The FAA will provide the Rulemaking Prioritization Working Group with a subset of issues to test the prototype. These issues are potential rulemaking projects from the FAA's four-year regulatory look-ahead.

When developing the prototype, the working group should review models and methodologies as references, including the Commercial Aviation Safety Team (CAST) methodology. In 1998, the FAA founded the CAST to develop an integrated, data-driven strategy to reduce the commercial aviation fatality risk in the United States and promote new government and industry safety initiatives throughout the world. The CAST methodology identifies top safety areas through the analysis of accident and incident data.

The working group should use the CAST methodology as a reference and not limit the criteria to safety. While safety is a critical factor, the working group should consider all drivers that influence the need to consider rulemaking; e.g., safety, capacity, cost, environmental impacts, harmonization, operations, and other needs.

The March 2011 ARAC Executive Committee meeting included a presentation of solicited ideas and proposed actions for the Executive Committee members to consider. This notice advises the public that the FAA has assigned, and the Executive Committee has accepted, a task to develop a report including recommendations on how to prioritize rulemaking projects.

The Task

The FAA has tasked the ARAC working group to provide advice and recommendations on developing a framework and methodologies to assist the FAA in assessing and sequencing potential rulemaking projects.

The working group is expected to develop a report containing recommendations on how the agency should prioritize rulemaking projects. This report should document both majority and minority positions on the findings and the rationale for each position. Any disagreements should be documented, including the rationale for each position and the reasons for the disagreement. In developing its recommendations, the working group shall:

1. Review FAAC Recommendation #22, which can be found at http://www.dot.gov/faac/FAAC_Recommendations.pdf.

2. Define a process to evaluate rulemaking projects.

3. Evaluate and consider the parameters and criteria of the risk assessment methodology, ensuring the most effective project receives the highest priority. This includes considering all drivers of rulemaking; e.g., safety, capacity, cost, environmental impacts, harmonization, operations, and other needs.

4. Explore models and/or methodologies that would be helpful in developing the risk assessment methodology. This includes reviewing the CAST methodology, which can be found at http://www.cast-safety.org/index.cfm.

5. Develop a classification system to rank rulemaking projects.

6. Develop a model to use as a prototype and test it with the subset of issues the FAA provides.

7. Consider ARAC's role after the FAA implements the rulemaking prioritization methodology.

Schedule: The recommendations must be forwarded to the ARAC Executive Committee for review and approval no later than December 2011. The working group may be assigned additional tasks leading to implementation of parameters and criteria that will assist the FAA in prioritizing its rulemaking program by December 2012.

ARAC Acceptance of Task

The ARAC Executive Committee has accepted the task and assigned it to the Rulemaking Prioritization Working Group. The working group serves as staff to ARAC and assists in the analysis of the assigned task. ARAC must review and approve the working group's recommendations. If ARAC accepts the working group's recommendations, it will send them to the FAA.

Working Group Activity

The Rulemaking Prioritization Working Group must comply with the procedures adopted by ARAC. As part of the procedures, the working group must:

1. Recommend a work plan for completion of the task, including the rationale supporting such a plan, for consideration at the next ARAC Executive Committee meeting held following publication of this notice.

2. Provide a status report at each meeting of the ARAC Executive Committee.

3. Draft the recommendation report and required analyses and/or any other related materials or documents.

4. Present the final recommendations to the ARAC Executive Committee for review and approval.

Participation in the Working Group

The Rulemaking Prioritization Working Group will be comprised of technical experts having an interest in the assigned task. A working group member need not be a representative or a member of the full committee. The FAA would like a wide range of members to ensure all aspects of rulemaking are considered in development of the recommendations.

If you wish to become a member of the Rulemaking Prioritization Working Group, write the person listed under the caption FOR FURTHER INFORMATION CONTACT expressing that desire. Describe your interest in the task and state the expertise you would bring to the working group. We must receive all requests by May 9, 2011. The Executive Committee and the FAA will review the requests and advise you whether or not your request is approved.

If you are chosen for membership on the working group, you must actively participate in the working group by attending all meetings, and providing written comments when requested to do so. You must devote the resources necessary to support the working group in meeting any assigned deadlines. You must keep your management chain and those you may represent advised of working group activities and decisions to ensure the proposed technical solutions do not conflict with your sponsoring organization's position when the subject is presented to ARAC for approval. Once the working group has begun deliberations, members will not be added or substituted without the approval of the FAA and the working group chair.

The Secretary of Transportation determined the formation and use of ARAC is necessary and in the public interest in connection with the performance of duties imposed on the FAA by law.

ARAC meetings are open to the public. However, ARAC Rulemaking Prioritization Working Group meetings are not open to the public, except to the extent individuals with an interest and expertise are selected to participate. The FAA will make no public announcement of working group meetings.

Issued in Washington, DC, on April 13, 2011.
Pamela Hamilton-Powell,
Executive Director, Aviation Rulemaking Advisory Committee.

[FR Doc. 2011-9399 Filed 4-18-11; 8:45 am]

BILLING CODE 4910-13-P